DEPARTMENT OF LABOR

Employment and Training Administration

[TA-W-52,644]

Fisher Controls, a Division of Emerson Process Management, McKinney, TX; Notice of Termination of Investigation

Pursuant to section 221 of the Trade Act of 1974, as amended, an investigation was initiated on August 21, 2003, in response to a petition filed by workers at Fisher Controls, a Division of Emerson Process Management, McKinney, Texas.

The petitioners have requested that the petition be withdrawn. Consequently, further investigation would serve no purpose, and the investigation has been terminated.

Signed at Washington, DC, this 15th day of September, 2003.
Linda G. Poole,
Certifying Officer, Division of Trade Adjustment Assistance.

[FR Doc. 03-26483 Filed 10-20-03; 8:45 am]

BILLING CODE 4510-30-P